DEPARTMENT OF COMMERCE

National Oceanic and Atmospheric Administration

50 CFR Part 680

[Docket No. 060227052-6052-01; I.D. 021606B]

RIN 0648-AU06

Fisheries of the Exclusive Economic Zone Off Alaska; Allocating Bering Sea and Aleutian Islands King and Tanner Crab Fishery Resources

AGENCY: National Marine Fisheries Service (NMFS), National Oceanic and Atmospheric Administration (NOAA), Commerce.

ACTION: Proposed rule; request for comments.

SUMMARY: NMFS proposes regulations implementing Amendment 20 to the Fishery Management Plan for Bering Sea/Aleutian Islands (BSAI) King and Tanner crabs (FMP). This proposed action would amend the BSAI Crab Rationalization Program (hereinafter referred to as the Program). If approved, Amendment 20 and this action would modify the allocation of harvesting shares and processing shares for Bering Sea Tanner crab Chionoecetes bairdi (Tanner crab) to allow this species to be managed as two separate stocks. This proposed action is necessary to increase resource conservation and economic efficiency in the crab fisheries that are subject to the Program. This action is intended to promote the goals and objectives of the Magnuson-Stevens Fishery Conservation and Management Act (Magnuson-Stevens Act), the FMP, and other applicable law.

DATES: Comments must be received no later than May 5, 2006.

ADDRESSES: Send comments to Sue Salveson, Assistant Regional Administrator, Sustainable Fisheries Division, Alaska Region, NMFS, Attn: Records Office. Comments may be submitted by:

• E-mail: 0648-7AU06-KTC20-PR@noaa.gov. Include in the subject line of the e-mail the following document identifier: Crab Rationalization RIN 0648-AU06. E-mail comments, with or without attachments, are limited to 5 megabytes.

• Mail: P.O. Box 21668, Juneau, AK 99802.

• Hand Delivery to the Federal Building: 709 West 9th Street, Room 420A, Juneau, AK.

• Facsimile: 907-586-7557.

• Webform at the Federal eRulemaking Portal: www.regulations.gov. Follow the instructions at that site for submitting comments.

Copies of Amendment 20 and the Environmental Assessment/Regulatory Impact Review/Initial Regulatory Flexibility Analysis (EA/RIR/IRFA) for this action may be obtained from the NMFS Alaska Region at the address above or from the Alaska Region website at http://www.fakr.noaa.gov/sustainablefisheries.htm.

FOR FURTHER INFORMATION CONTACT: Glenn Merrill, 907-586-7228 or glenn.merrill@noaa.gov.

SUPPLEMENTARY INFORMATION: The king and Tanner crab fisheries in the exclusive economic zone of the BSAI are managed under the FMP. The FMP was prepared by the North Pacific Fishery Management Council (Council) under the Magnuson-Stevens Act as amended by the Consolidated Appropriations Act of 2004 (Public Law 108-199, section 801). Amendments 18 and 19 to the FMP amended the FMP to include the Program. A final rule implementing these amendments was published on March 2, 2005 (70 FR 10174). NMFS also published three corrections to the final rule (70 FR 13097; March 18, 2005), (70 FR 33390; June 8, 2005) and (70 FR 75419; December 20, 2005).

Under the Program, harvester quota share (QS), processor quota share (PQS), individual fishing quota (IFQ), and individual processing quota (IPQ) currently are issued for one Tanner crab fishery. The State of Alaska (State), however, has determined that eastern Bering Sea Tanner crab should be separated into two stocks and managed as two separate fisheries to avoid localized depletion by the commercial fishery, particularly of legal-sized males in the Pribilof Islands area. Although the distribution of Tanner crab is continuous over its range in the eastern Bering Sea, some discontinuity exists in the distribution of legal-size males. Highest densities of legal-sized males during stock assessment surveys tend to occur at sampling stations either east of 166° W. longitude (i.e., in Bristol Bay) or west of 168° W. longitude (i.e., in the vicinity of the Pribilof Islands). In contrast, densities of legal-sized males tend to be low at survey stations between 166° W. longitude and 168° W. longitude. The contrast between densities in the Pribilof Islands area and Bristol Bay with the densities in the intervening area between 166° W. longitude and 168° W. longitude is most notable at times of high populations of legal-sized males in the eastern Bering Sea. The distribution of catch of legal-sized males during the commercial fishery has shown a similar pattern. The Program and the final rule implementing it allocated shares of the Tanner crab fishery in the Bering Sea, but did not separately distinguish the management of these two stocks.

If approved, Amendment 20 to the FMP and this action would modify the allocation of harvesting shares and processing shares for Bering Sea Tanner crab to accommodate management of geographically separate Tanner crab fisheries. This action proposes to allocate QS and PQS and the resulting IFQ and IPQ for two Tanner crab fisheries, one east of 166° W. longitude, the other west of 166° W. longitude. Revision of the QS and PQS allocations would resolve the current inconsistency between current allocations and management of the Tanner crab species as two stocks. This change is expected to reduce administrative costs for managers and the operational costs of harvesters and processors while increasing their flexibility.

Management of any harvestable surplus also would be improved through distinct allocations for separate Tanner crab stocks. Setting two total allowable catches (TACs) east and west of 166° W. longitude that are proportional to the estimated abundances east and west of 166° W. longitude provides a means to avoid localized depletion by the commercial fishery, particularly of those legal-sized males in the Pribilof Islands area. The 166° W. longitude boundary corresponds with an area in which historical fishery catch and effort has been low. Hence the 166° W. longitude boundary has the benefit of providing low potential for causing conservation, management and enforcement concerns that can result from fishers “fishing to the line” (i.e., commercial fishing effort and high removal rates concentrated on either side of the boundary).

This proposed action would not alter the basic structure or management of the Program. Reporting, monitoring, fee collection, and other requirements to participate in the Tanner crab fishery would remain unchanged. The proposed action also would not increase the number of harvesters or processors in the Tanner crab fisheries or the amount of crab that may be harvested currently. The proposed action would not affect regional delivery requirements or other restrictions on harvesting and processing Tanner crab that currently apply. It would provide a mechanism to ensure that quota is managed for each stock separately in accordance with biomass distribution. The proposed action also would provide additional flexibility to industry participants to hold quota to fish specific Tanner crab fisheries and reduce potential conflicts among participants that may occur if one quota is used to provide harvesting and processing privileges to two distinct stocks.

Under the proposed action, IFQ and IPQ holders will be able to trade shares in the fisheries independently to establish long-term relationships in each fishery independently.

This proposed action would not modify the process used to apply for and initially receive Tanner crab QS, PQS and the resulting IFQ and IPQ. Under the existing regulations, the agency calculated initial allocations of Tanner crab QS and PQS to eligible harvesters and processors who applied during the application period (April 4, 2005 through June 3, 2005). The allocations of east and west Tanner crab stock QS, PQS and the resulting IFQ and IPQ under this proposed action would be based on the existing application and allocation process.

NMFS proposes to reissue Tanner crab QS and PQS. Currently Tanner crab is issued as Bering Sea Tanner (BST) QS and BST PQS. For each share of BST QS held, a person would be issued one share of eastern Bering Sea Tanner crab (EBT) QS, and one share of western Bering Sea Tanner crab (WBT) QS. Similarly, for each BST PQS held, a person would be issued one share of EBT PQS, and one share of WBT PQS. EBT QS and PQS would result in IFQ and IPQ that could be used for the Tanner crab fishery occurring east of 166° W. longitude; WBT QS and PQS would result in IFQ and IPQ that could be used for the Tanner crab fishery occurring west of 166° W. longitude. This reissuance of Tanner crab QS and PQS would not increase the number of initially issued Tanner crab quota holders. Tanner crab QS and PQS holders would receive IFQ and IPQ in a specific fishery only if that specific Tanner crab fishery had a harvestable surplus and TAC assigned by the State.

NMFS would reissue Tanner crab QS and PQS after the end of the current Tanner crab fishing season (March 31, 2006), and prior to the date when the State would announce any TAC for the 2006/2007 fishing season (in early October 2006). This would reduce any potential conflict with the current Tanner crab fishery. The precise timing of QS and PQS reissuance is dependent on rulemaking and cannot be determined at this time.

Classification

At this time, NMFS has not determined that Amendment 20 and the provisions in this rule that would implement Amendment 20 are consistent with the national standards of the Magnuson-Stevens Act and other applicable laws. NMFS, in making the determination that this proposed rule is consistent, will take into account the data, views, and comments received during the comment period (see DATES).

A Regulatory Impact Review (RIR) was prepared to assess all costs and benefits of available regulatory alternatives. The RIR considers all quantitative and qualitative measures. Additionally, an initial regulatory flexibility analysis (IRFA) was prepared that describes the impact this proposed rule would have on small entities. The IRFA discusses both small and non-small entities to adequately characterize the fishing participants. Copies of the RIR/IRFA prepared for this proposed rule are available from NMFS (see ADDRESSES). The RIR/IRFA prepared for this proposed action builds off an extensive RIR/IRFA prepared for Amendments 18 and 19 that detailed the impacts of the Program on small entities.

The reasons why this action is being proposed and the objectives and legal basis for the proposed rule are discussed in the preamble to this rule and are not repeated here. The IRFA contains a description and estimate of the number of directly affected small entities.

Estimates of the number of small harvesting entities under the Program are complicated by several factors. First, each eligible captain will receive an allocation of QS under the program. A total of 186 captains received allocations of Tanner crab QS for the 2005-2006 fishery. In addition, 269 allocations of QS to LLP license holders were made under the Program, for a total of 454 QS allocations in the Bering Sea Tanner crab fisheries. Because some persons participated as LLP holders and captains and others received allocations from the activities of multiple vessels, only 294 unique persons received QS. Of those entities receiving QS, 287 are small entities because they either generated $4.0 million or less in gross revenue, or they are independent entities not affiliated with a processor. Estimates of gross revenues for purposes of determining the number of small entities, relied on the low estimates of prices from the arbitration reports based on the 2005/2006 fishing season.

Allocations of Tanner crab PQS under the Program were made to 20 processors. Of these PQS recipients, nine are estimated to be large entities, and eleven small entities. Estimates of large entities were made based on available records of employment and the analysts' knowledge of foreign ownership of processing companies. These totals exclude catcher/processors, which are included in the LLP holder discussion.

Other supporting businesses also may be indirectly affected by this action if it leads to fewer vessels participating in the fishery. These impacts are treated in the RIR prepared for this action (see ADDRESSES).

This proposed action does not contain any reporting, recordkeeping and other reporting requirements. No federal rules that may duplicate, overlap, or conflict with this proposed action have been identified.

The Council considered alternatives as it designed and evaluated the potential methods for accommodating two-stock management in the Bering Sea Tanner crab fisheries in the EA prepared for this proposed action. The alternatives differed only in the calculation of initial allocations of QS and PQS and the nature of the processing privileges (PQS and IPQ) in the rationalized Tanner crab fisheries. The alternatives have no effect on fishing practices or patterns and therefore have no effects on the physical and biological environment. Effects of the Program, including rationalizing the Tanner crab fishery, on the physical and biological environment (including effects on benthic species and habitat, essential fish habitat, the ecosystem, endangered species, marine mammals, and sea birds) are fully analyzed in the EIS prepared for the Program (Crab EIS) and are incorporated by reference in the EA prepared for this proposed action.

This proposed action is not anticipated to have additional impacts on the Tanner crab fisheries beyond those identified in the Crab EIS. No new significant information is available that would change these determinations in the Crab EIS. Please refer to the Crab EIS and its appendices for more detail (see ADDRESSES).

The EA/RIR/IRFA prepared for this action analyzed a suite of three alternatives for harvesters, and a separate suite of three alternatives for processors. Alternative 1 for both harvesters and processors, the no action alternative, would maintain the existing inconsistency between Federal allocations supporting a single Tanner crab fishery and State management of two stocks of Tanner crab. For harvesters, the difference in effects of the revised allocation alternatives on the social and economic environment is primarily distributional. Under the preferred harvester alternative (Alternative 2), an eligible participant would receive an allocation in both fisheries based on all qualifying catches regardless of where that catch occurred. Under harvester Alternative 3, a harvester would receive an allocation in each fishery based on historic catch from the area of the fishery. Under this alternative, a person's allocation will be skewed toward the area in which the person had greater catch relative to other participants.

For processors, the choice of revised allocation alternatives would have operational and efficiency effects. Under the preferred processor alternative (Alternative 2), PQS and IPQ pools would be created for the two fisheries. Share holders would be able to trade shares in the fisheries independently to establish long-term relationships in each fishery independently. Under processor Alternative 3, PQS would generate an annual allocation of IPQ that could be used in either fishery. Since TACs in the fisheries may fluctuate independently, harvesters that do not hold equal percentages of the pools in both fisheries will be unable to establish fixed long-term relationships with a processor for all their shares. Instead, these participants would need to modify their relationships if TACs change independently in the different Tanner crab fisheries. This restructuring of relationships could reduce efficiency in the Tanner crab fisheries by adding to transaction costs of participants.

Although the different allocations under consideration in this action would have distributional and efficiency impacts for individual participants, in no case are these impacts in the aggregate expected to be substantial. In all instances, similar numbers of participants would receive allocations. Although none of the alternatives has substantial negative impacts on small entities, preferred Alternative 2 for processors minimizes the potential negative impacts that could arise under Alternative 3 for processors. Differences in efficiency that could arise are likely to affect most participants in a minor way having an overall insubstantial impact. As a consequence, none of the alternatives is expected to have any significant economic or socioeconomic impacts.

Collection-of-information

This rule does not contain new collection-of-information requirements subject to review and approval by OMB under the Paperwork Reduction Act (PRA).

This proposed rule has been determined to be not significant for purposes of Executive Order 12866.

List of Subjects in 50 CFR Part 680

Alaska, Fisheries, Reporting and recordkeeping requirements.

Dated: March 16, 2006.
James W. Balsiger,
Acting Deputy Assistant Administrator for Regulatory Programs, National Marine Fisheries Service.

For the reasons set out in the preamble, 50 CFR part 680 is proposed to be amended as follows:

PART 680—SHELLFISH FISHERIES OF THE EXCLUSIVE ECONOMIC ZONE OFF ALASKA

1. The authority citation for part 680 continues to read as follows:

Authority: 16 U.S.C. 1862.

2. In § 680.4, revise paragraphs (b) and (c) to read as follows:

§ 680.4 Permits.

* * * * *

(b) Crab QS permit. (1) Crab QS is issued by the Regional Administrator to persons who successfully apply for an initial allocation under § 680.40 or receive QS by transfer under § 680.41. Once issued, a crab QS permit is valid until modified under paragraph (b)(2) of this section, or by transfer under § 680.41; or until the permit is revoked, suspended, or modified pursuant to § 679.43 or under 15 CFR part 904. To qualify for a crab QS permit, the applicant must be a U.S. Citizen.

(2) Each unit of Crab QS initially issued under § 680.40 for the Bering Sea Tanner crab (Chionoecetes bairdi) CR fishery shall be reissued as one unit of Eastern Bering Sea Tanner crab (EBT) QS and one unit of Western Bering Sea Tanner crab (WBT) QS.

(c) Crab PQS permit. (1) Crab PQS is issued by the Regional Administrator to persons who successfully apply for an initial allocation under § 680.40 or receive PQS by transfer under § 680.41. Once issued, a crab PQS permit is valid until modified under paragraph (c)(2) of this section, or by transfer under § 680.41; or until the permit is revoked, suspended, or modified pursuant to § 679.43 or under 15 CFR part 904.

(2) Each unit of Crab PQS initially issued under § 680.40 for the Bering Sea Tanner crab (Chionoecetes bairdi) CR fishery shall be reissued as one unit of Eastern Bering Sea Tanner crab (EBT) PQS and one unit of Western Bering Sea Tanner crab (WBT) PQS.

* * * * *

§§ 680.40 and 680.41 [Amended]

3. In the table below, at each of the locations shown in the “Location” column, remove the phrase indicated in the “Remove” column and replace it with the phrase indicated in the “Add” column:

LOCATION | REMOVE | ADD
§ 680.40(b)(2)(ii)(A) | BST | EBT or WBT
§ 680.40(d)(2)(iv)(B) | BST | EBT or WBT
§ 680.41(l)(1)(i) | BST | EBT, WBT,

4. In § 680.40, revise paragraph (b)(2)(iii) to read as follows:

§ 680.40 Quota Share (QS), Processor QS (PQS), Individual Fishing Quota (IFQ), and Individual Processor Quota (IPQ) issuance.

* * * * *

(b) * * *

(2) * * *

(iii) The regional designations that apply to each of the crab QS fisheries are specified in the following table:

Crab QS Fishery | North Region | South Region | West Region | Undesignated Region
(A) EAG | X | X |  |
(B) WAG |  |  | X | X
(C) EBT |  |  |  | X
(D) WBT |  |  |  | X
(E) BSS | X | X |  |
(F) BBR | X | X |  |
(G) PIK | X | X |  |
(H) SMB | X | X |  |
(I) WAI |  | X |  |

* * * * *

5. In § 680.42, revise paragraph (a)(2)(i), (a)(3)(i), (a)(4)(i), (c) paragraph heading, and (c)(1) to read as follows:

§ 680.42 Limitations on use of QS, PQS, IFQ and IPQ.

(a) * * *

(2) * * *

(i) Hold QS in amounts in excess of the amounts specified in the following table, unless that person's QS was received in the initial allocation:

Fishery | CVO/CPO Use Cap in QS Units | CVC/CPC Use Cap in QS Units
(A) Percent of the initial QS pool for BBR | 1.0% = 3,880,000 | 2.0% = 240,000
(B) Percent of the initial QS pool for BSS | 1.0% = 9,700,000 | 2.0% = 600,000
(C) Percent of the initial QS pool for EBT | 1.0% = 1,940,000 | 2.0% = 120,000
(D) Percent of the initial QS pool for WBT | 1.0% = 1,940,000 | 2.0% = 120,000
(E) Percent of the initial QS pool for PIK | 2.0% = 582,000 | 4.0% = 36,000
(F) Percent of the initial QS pool for SMB | 2.0% = 582,000 | 4.0% = 36,000
(G) Percent of the initial QS pool for EAG | 10.0% = 970,000 | 20.0% = 60,000
(H) Percent of the initial QS pool for WAG | 10.0% = 3,880,000 | 20.0% = 240,000
(I) Percent of the initial QS pool for WAI | 10.0% = 5,820,000 | 20.0% = 360,000

* * * * *

(3) * * *

(i) Hold QS in excess of more than the amounts of QS specified in the following table:

Fishery | CDQ CVO/CPO Use Cap in QS Units
(A) 5.0 percent of the initial QS pool for BBR | 19,400,000
(B) 5.0 percent of the initial QS pool for BSS | 48,500,000
(C) 5.0 percent of the initial QS pool for EBT | 9,700,000
(D) 5.0 percent of the initial QS pool for WBT | 9,700,000
(E) 10.0 percent of the initial QS pool for PIK | 2,910,000
(F) 10.0 percent of the initial QS pool for SMB | 2,910,000
(G) 20.0 percent of the initial QS pool for EAG | 1,940,000
(H) 20.0 percent of the initial QS pool for WAG | 7,760,000
(I) 20.0 percent of the initial QS pool for WAI | 11,640,000

* * * * *

(4) * * *

(i) Hold QS in excess of the amounts specified in the following table:

Fishery | CVO/CPO Use Cap in QS Units
(A) 5.0 percent of the initial QS pool for BBR | 19,400,000
(B) 5.0 percent of the initial QS pool for BSS | 48,500,000
(C) 5.0 percent of the initial QS pool for EBT | 9,700,000
(D) 5.0 percent of the initial QS pool for WBT | 9,700,000
(E) 5.0 percent of the initial QS pool for PIK | 1,455,000
(F) 5.0 percent of the initial QS pool for SMB | 1,455,000
(G) 5.0 percent of the initial QS pool for EAG | 485,000
(H) 5.0 percent of the initial QS pool for WAG | 1,940,000
(I) 5.0 percent of the initial QS pool for WAI | 2,910,000

* * * * *

(c) Vessel limitations. (1) Except for vessels that participate solely in a crab harvesting cooperative as described under § 680.21 and under the provisions described in paragraph (c)(4) of this section, no vessel may be used to harvest CVO or CPO IFQ in excess of the following percentages of the TAC for that crab QS fishery for that crab fishing year:

(i) 2.0 percent for BSS;

(ii) 2.0 percent for BBR;

(iii) 2.0 percent for EBT;

(iv) 2.0 percent for WBT

(v) 4.0 percent for PIK;

(vi) 4.0 percent for SMB;

(vii) 20.0 percent for EAG;

(viii) 20.0 percent for WAG; or

(ix) 20.0 percent for the WAI crab QS fishery west of 179° W. long.

* * * * *

6. Revise Table 1 to part 680 to read as follows:

Table 1 to Part 680—Crab Rationalization (CR) Fisheries
Fishery Code | CR Fishery | Geographic Area
BBR | Bristol Bay red king crab (Paralithodes camtshaticus) | In waters of the EEZ with: (1) A northern boundary of 58°30′ N. lat., (2) A southern boundary of 54°36′ N. lat., and (3) A western boundary of 168° W. long. and including all waters of Bristol Bay.
BSS | Bering Sea Snow crab (Chionoecetes opilio) | In waters of the EEZ with: (1) A northern and western boundary of the Maritime Boundary Agreement Line as that line is described in the text of and depicted in the annex to the Maritime Boundary Agreement between the United States and the Union of Soviet Socialist Republics signed in Washington, June 1, 1990, and as the Maritime Boundary Agreement Line as depicted on NOAA Chart No. 513 (6th edition, February 23, 1991) and NOAA Chart No. 514 (6th edition, February 16, 1991), and (2) A southern boundary of 54°30′ N. lat. to 171° W. long., and then south to 54°36′ N. lat.
EAG | Eastern Aleutian Islands golden king crab (Lithodes aequispinus) | In waters of the EEZ with: (1) An eastern boundary the longitude of Scotch Cap Light (164°44′ W. long.) to 53°30′ N. lat., then West to 165° W. long., (2) A western boundary of 174° W. long., and (3) A northern boundary of a line from the latitude of Cape Sarichef (54°36′ N. lat.) westward to 171° W. long., then north to 55°30′ N. lat., then west to 174° W. long.
EBT | Eastern Bering Sea Tanner crab (Chionoecetes bairdi) | In waters of the EEZ with: (1) A western boundary the longitude of 166° W. long., (2) A northern boundary of the Maritime Boundary Agreement Line as that line is described in the text of and depicted in the annex to the Maritime Boundary Agreement between the United States and the Union of Soviet Socialist Republics signed in Washington, June 1, 1990, and as the Maritime Boundary Agreement Line as depicted on NOAA Chart No. 513 (6th edition, February 23, 1991) and NOAA Chart No. 514 (6th edition, February 16, 1991), and (3) A southern boundary of 54°30'N. lat.
PIK | Pribilof red king and blue king crab (Paralithodes camtshaticus and P. platypus) | In waters of the EEZ with: (1) A northern boundary of 58°30′ N. lat., (2) An eastern boundary of 168° W. long., and (3) A southern boundary line from 54°36′ N. lat., 168° W. long., to 54°36′ N. lat., 171° W. long., to 55°30′ N. lat., 171° W. long., to 55°30′ N. lat., 173°30′ E. lat., and then westward to the Maritime Boundary Agreement Line as that line is described in the text of and depicted in the annex to the Maritime Boundary Agreement between the United States and the Union of Soviet Socialist Republics signed in Washington, June 1, 1990, and as the Maritime Boundary Agreement Line as depicted on NOAA Chart No. 513 (6th edition, February 23, 1991) and NOAA Chart No. 514 (6th edition, February 16, 1991).
SMB | St. Matthew blue king crab (Paralithodes platypus) | In waters of the EEZ with: (1) A northern boundary of 62° N. lat., (2) A southern boundary of 58°30′ N. lat., and (3) A western boundary of the Maritime Boundary Agreement Line as that line is described in the text of and depicted in the annex to the Maritime Boundary Agreement between the United States and the Union of Soviet Socialist Republics signed in Washington, June 1, 1990, and as the Maritime Boundary Agreement Line as depicted on NOAA Chart No. 513 (6th edition, February 23, 1991) and NOAA Chart No. 514 (6th edition, February 16, 1991).
WAG | Western Aleutian Islands golden king crab (Lithodes aequispinus) | In waters of the EEZ with: (1) An eastern boundary the longitude 174° W. long., (2) A western boundary the Maritime Boundary Agreement Line as that line is described in the text of and depicted in the annex to the Maritime Boundary Agreement between the United States and the Union of Soviet Socialist Republics signed in Washington, June 1, 1990, and as the Maritime Boundary Agreement Line as depicted on NOAA Chart No. 513 (6th edition, February 23, 1991) and NOAA Chart No. 514 (6th edition, February 16, 1991), and (3) A northern boundary of a line from the latitude of 55°30′ N. lat., then west to the U.S.-Russian Convention line of 1867.
WAI | Western Aleutian Islands red king crab (Paralithodes camtshaticus) | In waters of the EEZ with: (1) An eastern boundary the longitude 179° W. long., (2) A western boundary of the Maritime Boundary Agreement Line as that line is described in the text of and depicted in the annex to the Maritime Boundary Agreement between the United States and the Union of Soviet Socialist Republics signed in Washington, June 1, 1990, and as the Maritime Boundary Agreement Line as depicted on NOAA Chart No. 513 (6th edition, February 23, 1991) and NOAA Chart No. 514 (6th edition, February 16, 1991), and (3) A northern boundary of a line from the latitude of 55°30′ N. lat., then west to the Maritime Boundary Agreement Line as that line is described in the text of and depicted in the annex to the Maritime Boundary Agreement between the United States and the Union of Soviet Socialist Republics signed in Washington, June 1, 1990, and as the Maritime Boundary Agreement Line as depicted on NOAA Chart No. 513 (6th edition, February 23, 1991) and NOAA Chart No. 514 (6th edition, February 16, 1991).
WBT | Western Bering Sea Tanner crab (Chionoecetes bairdi) | In waters of the EEZ with: (1) An eastern boundary the longitude of 166° W. long., (2) A northern and western boundary of the Maritime Boundary Agreement Line as that line is described in the text of and depicted in the annex to the Maritime Boundary Agreement between the United States and the Union of Soviet Socialist Republics signed in Washington, June 1, 1990, and as the Maritime Boundary Agreement Line as depicted on NOAA Chart No. 513 (6th edition, February 23, 1991) and NOAA Chart No. 514 (6th edition, February 16, 1991), and (3) A southern boundary of 54°30′ N. lat. to 171° W. long., and then south to 54°36′ N. lat.

7. Revise Tables 7, 8, and 9 to part 680 to read as follows:

Table 7 to Part 680—Initial Issuance of Crab QS by Crab QS Fishery
Column A: Crab QS Fisheries | Column B: Qualifying Years for QS | Column C: Eligibility Years for CVC and CPC QS | Column D: Recent Participation Seasons for CVC and CPC QS | Column E: Subset of Qualifying Years
For each crab QS fishery the Regional Administrator shall calculate (see § 680.40(c)(2): | QS for any qualified person based on that person's total legal landings of crab in each of the crab QS fisheries for any: | In addition, each person receiving CVC and CPC QS must have made at least one landing per year, as recorded on a State of Alaska fish ticket, in any three years during the base period described below: | In addition, each person receiving CVC or CPC QS, must have made at least one landing, as recorded on a State of Alaska fish ticket, in at least 2 of the last 3 fishing seasons in each of the crab QS fisheries as those seasons are described below: | The maximum number of qualifying years that can be used to calculate QS for each QS fishery is:
1. Bristol Bay red king crab (BBR) | 4 years of the 5-year QS base period beginning on: (1) November 1-5, 1996; (2) November 1-5, 1997; (3) November 1-6, 1998; (4) October 15-20, 1999; (5) October 16-20, 2000. | 3 years of the 5-year QS base period beginning on: (1) November 1-5, 1996; (2) November 1-5, 1997; (3) November 1-6, 1998; (4) October 15-0, 1999; (5) October 16-20, 2000. | (1) October 15-20, 1999. (2) October 16-20, 2000. (3) October 15-18, 2001. | 4 years
2. Bering Sea snow crab (BSS) | 4 years of the 5-year period beginning on: (1) January 15, 1996 through February 29, 1996; (2) January 15, 1997 through March 21, 1997; (3) January 15, 1998 through March 20, 1998; (4) January 15, 1999 through March 22, 1999; (5) April 1-8, 2000. | 3 years of the 5-year period beginning on: (1) January 15, 1996 through February 29, 1996; (2) January 15, 1997 through March 21, 1997; (3) January 15, 1998 through March 20, 1998; (4) January 15, 1999 through March 22, 1999; (5) April 1-8, 2000. | (1) April 1-8, 2000. (2) January 15, 2001 through February 14, 2001. (3) January 15, 2002 through February 8, 2002. | 4 years
3. Eastern Aleutian Islands golden king crab (EAG) | 5 years of the 5-year base period beginning on: (1) September 1, 1996 through December 25, 1996; (2) September 1, 1997 though November 24, 1997; (3) September 1, 1998 through November 7, 1998; (4) September 1, 1999 through October 25, 1999; (5) August 15, 2000 through September 24, 2000. | 3 years of the 5-year base period beginning on: (1) September 1, 1996 through December 25, 1996; (2) September 1, 1997 though November 24, 1997; (3) September 1, 1998 through November 7, 1998; (4) September 1, 1999 through October 25, 1999; (5) August 15, 2000 through September 25, 2000. | (1) September 1 1999 through October 25, 1999. (2) August 15, 2000 through September 24, 2000. (3) August 15, 2001 through September 10, 2001. | 5 years
4. Eastern Bering Sea Tanner crab (EBT) | 4 of the 6 seasons beginning on: (1) November 15, 1991 through March 31, 1992; (2) November 15, 1992 through March 31, 1993; (3) November 1-10, 1993, and November 20, 1993 through January 1, 1994; (4) November 1-21, 1994; (5) November 1-16, 1995; (6) November 1-5, 1996 and November 15-27, 1996. | 3 of the 6 seasons beginning on: (1) November 15, 1991 through March 31, 1992; (2) November 15, 1992 through March 31, 1993; (3) November 1-10, 1993, and November 20, 1993 through January 1, 1994; (4) November 1-21, 1994; (5) November 1-16, 1995; (6) November 1-5, 1996 and November 15-27, 1996. | In any 2 of the last 3 seasons prior to June 10, 2002 in the Eastern Aleutian Island golden (brown) king crab, Western Aleutian Island golden (brown) king crab, Bering Sea snow crab, or Bristol Bay red king crab fisheries. | 4 years
5. Pribilof red king and blue king crab (PIK) | 4 years of the 5-year period beginning on: (1) September 15-21, 1994; (2) September 15-22, 1995; (3) September 15-26, 1996; (4) September 15-29, 1997; (5) September 1-28, 1998. | 3 years of the 5-year period beginning on: (1) September 15-21, 1994; (2) September 15-22, 1995; (3) September 15-26, 1996; (4) September 15-29, 1997; (5) September 15-28, 1998. | In any 2 of the last 3 seasons prior to June 10, 2002 in the Eastern Aleutian Island golden (brown) king crab, Western Aleutian Island golden (brown) king crab, Bering Sea snow crab, or Bristol Bay red king crab fisheries, except that persons applying for an allocation to receive QS based on legal landings made aboard a vessel less than 60 feet (18.3 m) LOA at the time of harvest are exempt from this requirement. | 4 years
6. St. Matthew blue king crab (SMB) | 4 years of the 5-year period beginning on: (1) September 15-22, 1994; (2) September 15-20, 1995; (3) September 15-23, 1996; (4) September 15-22, 1997; (5) September 15-26, 1998. | 3 years of the 5-year period beginning on: (1) September 15-22, 1994; (2) September 15-20, 1995; (3) September 15-23, 1996; (4) September 15-22, 1997; and (5) September 15-26, 1998. | In any 2 of the last 3 seasons prior to June 10, 2002 in the Eastern Aleutian Island golden (brown) king crab, Western Aleutian Island golden (brown) king crab, Bering Sea snow crab, or Bristol Bay red king crab fisheries. | 4 years
7. Western Aleutian Islands brown king crab (WAG) | 5 of the 5 seasons beginning on: (1) September 1, 1996 through August 31, 1997; (2) September 1, 1997 though August 21, 1998; (3) September 1, 1998 through August 31, 1999; (4) September 1, 1999 through August 14, 2000; (5) August 15, 2000 through March 28, 2001. | 3 of the 5 seasons beginning on: (1) September 1, 1996 through August 31, 1997; (2) September 1, 1997 though August 31, 1998; (3) September 1, 1998 through August 31, 1999; (4) September 1, 1999 through August 14, 2000; (5) August 15, 2000 through March 28, 2001. | (1) September 1, 1999 through August 14, 2000. (2) August 15, 2000 through March 28, 2001. (3) August 15 2001 through March 30, 2002. | 5 years
8. Western Aleutian Islands red king crab (WAI) | 3 of the 4 seasons beginning on: (1) November 1, 1992 through January 15, 1993; (2) November 1, 1993 through February 15, 1994; (3) November 1-28, 1994; (4) November 1, 1995 through February 13, 1996. | 3 of the 4 seasons beginning on: (1) November 1, 1992 through January 15, 1993; (2) November 1, 1993 through February 15, 1994; (3) November 1-28, 1994; (4) November 1, 1995 through February 13, 1996. | In any 2 of the last 3 seasons prior to June 10, 2002 in the Eastern Aleutian Island golden (brown) king crab, Western Aleutian Island golden (brown) king crab, Bering Sea snow crab, or Bristol Bay red king crab fisheries. | 3 years
9. Western Bering Sea Tanner crab (WBT) | 4 of the 6 seasons beginning on: (1) November 15, 1991 through March 31, 1992; (2) November 15, 1992 through March 31, 1993; (3) November 1-10, 1993, and November 20, 1993 through January 1, 1994; (4) November 1-21, 1994; (5) November 1-16, 1995; (6) November 1-5, 1996 and November 15-27, 1996. | 3 of the 6 seasons beginning on: (1) November 15, 1991 through March 31, 1992; (2) November 15, 1992 through March 31, 1993; (3) November 1-10, 1993, and November 20, 1993 through January 1, 1994; (4) November 1-21, 1994; (5) November 1-16, 1995; (6) November 1-5, 1996 and November 15-27, 1996. | In any 2 of the last 3 seasons prior to June 10, 2002 in the Eastern Aleutian Island golden (brown) king crab, Western Aleutian Island golden (brown) king crab, Bering Sea snow crab, or Bristol Bay red king crab fisheries. | 4 years

Table 8 to Part 680—Initial QS and PQS Pool for Each Crab QS Fishery
Crab QS Fishery | Initial QS Pool | Initial PQS Pool
BBR - Bristol Bay red king crab | 400,000,000 | 400,000,000
BSS - Bering Sea snow crab C. opilio | 1,000,000,000 | 1,000,000,000
EAG - Eastern Aleutian Islands golden king crab | 10,000,000 | 10,000,000
EBT - Eastern Bering Sea Tanner crab (C. bairdi) | 200,000,000 | 200,000,000
PIK - Pribilof Islands red and blue king crab | 30,000,000 | 30,000,000
SMB - St. Matthew blue king crab | 30,000,000 | 30,000,000
WAG - Western Aleutian Islands golden king crab | 40,000,000 | 40,000,000
WAI - Western Aleutian Islands red king crab | 60,000,000 | 60,000,000
WBT - Western Bering Sea Tanner crab (C. bairdi) | 200,000,000 | 200,000,000

Table 9 to Part 680—Initial Issuance of Crab PQS by Crab QS Fishery
Column A: For each crab QS fishery: | Column B: The Regional Administrator shall calculate PQS for any qualified person based on that person=s total legal purchase of crab in each of the crab QS fisheries for any...
Bristol Bay red king crab (BBR) | 3 years of the 3-year QS base period beginning on: (1) November 1-5, 1997; (2) November 1-6, 1998; and (3) October 15-20, 1999.
Bering Sea snow crab (BSS) | 3 years of the 3-year period beginning on: (1) January 15, 1997 through March 21, 1997; (2) January 15, 1998 through March 20, 1998; and (3) January 15, 1999 through March 22, 1999.
Eastern Aleutian Island golden king crab (EAG) | 4 years of the 4-year base period beginning on: (1) September 1, 1996 through December 25, 1996; (2) September 1, 1997 though November 24, 1997; (3) September 1, 1998 through November 7, 1998; and (4) September 1, 1999 through October 25, 1999.
Eastern Bering Sea Tanner crab (EBT) | Equivalent to 50 percent of the total legally processed crab in the Bering Sea snow crab fishery during the qualifying years established for that fishery, and 50 percent of the total legally processed crab in the Bristol Bay red king crab fishery during the qualifying years established for that fishery.
Pribilof Islands red and blue king crab (PIK) | 3 years of the 3-year period beginning on: (1) September 15-26, 1996; (2) September 15-29, 1997; and (3) September 15-28, 1998.
St. Matthew blue king crab (SMB) | 3 years of the 3-year period beginning on: (1) September 15-23, 1996; (2) September 15-22, 1997; and (3) September 15-26, 1998.
Western Aleutian Island golden king crab (WAG) | 4 years of the 4-year base period beginning on: (1) September 1, 1996 through August 31, 1997; (2) September 1, 1997 though August 31, 1998; (3) September 1, 1998 through August 31, 1999; and (4) September 1, 1999 through August 14, 2000.
Western Aleutian Islands red king crab (WAI) | Equivalent to the total legally processed crab in the Western Aleutian Islands golden (brown) king crab fishery during the qualifying years established for that fishery.
Western Bering Sea Tanner crab (WBT) | Equivalent to 50 percent of the total legally processed crab in the Bering Sea snow crab fishery during the qualifying years established for that fishery, and 50 percent of the total legally processed crab in the Bristol Bay red king crab fishery during the qualifying years established for that fishery.

[FR Doc. 06-2705 Filed 3-20-06; 8:45 am]

BILLING CODE 3510-22-S